DEPARTMENT OF LABOR

Employment and Training Administration

[TA-W-82,379]

Abbott Laboratories; Diagnostic—Hematology; Including On-Site Leased Workers From Manpower Service Group and ATR International; Santa Clara, California; Amended Certification Regarding Eligibility To Apply for Worker Adjustment Assistance

In accordance with Section 223 of the Trade Act of 1974, as amended (“Act”), 19 U.S.C. 2273, the Department of Labor issued a Certification of Eligibility to Apply for Worker Adjustment Assistance on February 22, 2013, applicable to workers of Abbott Laboratories, Diagnostic—Hematology division, including on-site leased workers from Manpower Service Group, Santa Clara, California. The Department's notice of determination was published in the Federal Register on March 8, 2013 (78 FR 15050).

At the request of the U.S. Department of Labor, the Department reviewed the certification for workers of the subject firm. The workers were engaged in activities related to the production of hematology reagents and instruments.

The company reports that workers leased from ATR International were employed on-site at the Santa Clara, California location of Abbott Laboratories, Diagnostic—Hematology Division. The Department has determined that these workers were sufficiently under the control of the subject firm to be considered leased workers.

Based on these findings, the Department is amending this certification to include workers leased from ATR International working on-site at the Santa Clara, California location of Abbott Laboratories, Diagnostic—Hematology division.

The amended notice applicable to TA-W-82,379 is hereby issued as follows:

“All workers of ATR International, reporting to Abbott Laboratories, Diagnostic—Hematology division, including on-site leased workers from Manpower Service Group, Santa Clara, California, who became totally or partially separated from employment on or after January 28, 2012, through February 22, 2015, and all workers in the group threatened with total or partial separation from employment on the date of certification through two years from the date of certification, are eligible to apply for adjustment assistance under Chapter 2 of Title II of the Trade Act of 1974, as amended.”

Signed in Washington, DC this 21st day of August, 2013.
Michael W. Jaffe,
Certifying Officer, Office of Trade Adjustment Assistance.

[FR Doc. 2013-21426 Filed 9-3-13; 8:45 am]

BILLING CODE 4510-FN-P